DEPARTMENT OF TRANSPORTATION

Federal Aviation Administration

Notice to Manufacturers of Airport Avian Radar Systems

AGENCY: Federal Aviation Administration (FAA), U.S. DOT.

ACTION: Notice to Manufacturers of Airport Avian Radar Systems.

SUMMARY: Projects funded under the Airport Improvement Program (AIP) must meet the requirements of 49 U.S.C. 50101, Buy American Preferences. The Federal Aviation Administration (FAA) is considering issuing waivers to foreign manufacturers of airport avian radar systems that meet the requirements of FAA Advisory Circular (AC) 150/5220-25, Airport Avian Radar Systems. This notice requests information from manufacturers of systems meeting the technical requirements to determine whether a waiver to the Buy American Preferences should be issued.

FOR FURTHER INFORMATION CONTACT: Ms. Nancy S. Williams, Airports Financial Assistance, APP 501, Room 619, FAA, 800 Independence Avenue SW., Washington, DC 20591, Telephone (202) 267-3831.

SUPPLEMENTARY INFORMATION: The Federal Aviation Administration (FAA) manages a Federal grant program for airports called the Airport Improvement Program (AIP). AIP grant recipients must follow 49 U.S.C. 50101, Buy American Preferences.

Under 49 U.S.C. 50101(b)(3), the Secretary of Transportation may waive the Buy American Preference requirement if the goods are not produced in a sufficient and reasonably available amount or are not of a satisfactory quality.

On November 23, 2010, FAA published Advisory Circular (AC) 150/5220-25, Airport Avian Radar Systems. The AC specified the technical requirements for avian radar systems at airports. The FAA is seeking to determine if there is a sufficient quantity of airport avian radar system manufacturers that are capable of meeting the AC requirements produced in the United States. If the FAA cannot find that there are USA manufacturers, it will issue a nationwide waiver to the foreign manufacturers that it has identified as being capable of meeting the technical requirements.

The purpose of this notice is to request manufacturers, both domestic and foreign, to advise FAA of the system that they manufacture and whether it can meet the technical requirements. The detailed instructions for submitting the qualifications statement, including forms, may be found on the FAA Web site at: http://www.faa.gov/airports/aip/procurement/federal_contract_provisions/ at the tab entitled, Airport Avian Radar System Request for Qualifications.

After review, the FAA may issue a nationwide waiver to Buy American Preferences for the foreign manufacturers. This “nationwide waiver” allows the equipment to be used on airport projects without having to receive separate project waivers. Having a nationwide waiver allows projects to start quickly without have to wait for the Buy American analysis to be completed for every project, while still assuring the funds used for airport projects under the Act are being directed to U.S. manufacturers.

The items that have been granted a “nationwide waiver” can be found on the FAA Web site at: http://www.faa.gov/airports/aip/procurement/federal_contract_provisions/ at the tab entitled, Equipment Meeting Buy American Requirements.

Issued in Washington, DC, October 11, 2011.
Frank J. San Martin,
Manager, Airports Financial Assistance Division.

[FR Doc. 2011-26787 Filed 10-27-11; 8:45 am]

BILLING CODE 4910-13-P